DEPARTMENT OF TRANSPORTATION

National Highway Traffic Safety Administration

[Docket No. NHTSA-2004-16948; Notice 2]

Denial of Petition for Import Eligibility for 2003-2004 CF Moto CF125T-2 Motorcycles

AGENCY: National Highway Traffic Safety Administration, DOT.

ACTION: Denial of petition for Import Eligibility for 2003-2004 CF Moto CF125T-2 Motorcycles.

DISCUSSION: This document sets forth the reasons for the denial of a petition submitted to the National Highway Traffic Safety Administration (NHTSA) under 49 U.S.C. 30141(a)(1)(B). The petition, which was submitted by U.S. SPECS of Aberdeen, Maryland (Registered Importer 03-321), requested NHTSA to decide that 2003-2004 CF Moto CF125T-2 motorcycles that were not originally manufactured to comply with all applicable Federal motor vehicle safety standards (FMVSS) are eligible for importation into the United States. In the petition, U.S. SPECS contended that these vehicles are eligible for importation under 49 U.S.C. 30141(a)(1)(B) because they have safety features that comply with, or are capable of being altered to comply with, all applicable FMVSS.

NHTSA published a notice in the Federal Register on January 29, 2004 (69 FR 4355) that contained a thorough description of the petition, and solicited public comments upon it. Following publication of the notice, NHTSA requested U.S. SPECS to submit test data or other information to demonstrate that 2003-2004 CF Moto CF125T-2 motorcycles comply with, or are capable of being altered to comply with, the requirements of Standard Nos. 122 Motorcycle Brake Systems and 123 Motorcycle Controls and Displays. U.S. SPECS was unable to submit this information to NHTSA. Accordingly, NHTSA has concluded that the petition does not clearly demonstrate that 2003-2004 CF Moto CF125T-2 motorcycles are eligible for importation. The petition must therefore be denied under 49 CFR 593.7(e).

In accordance with 49 U.S.C. 30141(b)(1), NHTSA will not consider a new import eligibility petition covering this vehicle until at least three months from the date of this notice.

Authority: 49 U.S.C. 30141(a)(1)(A) and (b)(1); 49 CFR 593.7; delegations of authority at 49 CFR 1.50 and 501.8.

Claude H. Harris,
Director, Office of Vehicle Safety Compliance.

[FR Doc. 05-15481 Filed 8-4-05; 8:45 am]

BILLING CODE 4910-59-P